ENVIRONMENTAL PROTECTION AGENCY

[EPA-HQ-OAR-2015-0072; FRL-10004-46-OAR]

Release of a Final Document Related to the Review of the National Ambient Air Quality Standards for Particulate Matter

AGENCY: Environmental Protection Agency (EPA).

ACTION: Notice of availability.

SUMMARY: The Environmental Protection Agency (EPA) is announcing the availability of a document titled, Policy Assessment for the Review of the National Ambient Air Quality Standards for Particulate Matter (PA). This document was prepared as part of the current review of the National Ambient Air Quality Standards (NAAQS) for Particulate Matter (PM). Building on the Integrated Science Assessment for Particulate Matter (ISA), completed in December 2019, the PA is intended to “bridge the gap” between the currently available scientific information and the judgments required of the Administrator in determining whether to retain or revise the existing NAAQS for PM.

DATES: The PA will be made available on or about January 27, 2020.

ADDRESSES: This document will be available primarily via the internet at https://www.epa.gov/naaqs/particulate-matter-pm-air-quality-standards.

FOR FURTHER INFORMATION CONTACT: Dr. Scott Jenkins, Office of Air Quality Planning and Standards (Mail Code C504-06), U.S. Environmental Protection Agency, Research Triangle Park, NC 27711; telephone number: 919-541-1167; fax number: 919-541-5315; email: jenkins.scott@epa.gov.

SUPPLEMENTARY INFORMATION: Two sections of the Clean Air Act (CAA) govern the establishment and revision of the NAAQS. Section 108 (42 U.S.C. 7408) directs the Administrator to identify and list certain air pollutants and then to issue air quality criteria for those pollutants. The Administrator is to list those air pollutants that in his “judgment, cause or contribute to air pollution which may reasonably be anticipated to endanger public health or welfare”; “the presence of which in the ambient air results from numerous or diverse mobile or stationary sources”; and “for which . . . [the Administrator] plans to issue air quality criteria . . .” (42 U.S.C. 7408(a)(1)(A)-(C)). Air quality criteria are intended to “accurately reflect the latest scientific knowledge useful in indicating the kind and extent of all identifiable effects on public health or welfare which may be expected from the presence of [a] pollutant in the ambient air . . .” (42 U.S.C. 7408(a)(2)). Under section 109 (42 U.S.C. 7409), the EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and revise the NAAQS, if appropriate, based on the revised criteria. Section 109(d)(2) requires that an independent scientific review committee “shall complete a review of the criteria . . . and the national primary and secondary ambient air quality standards . . . and shall recommend to the Administrator any new . . . standards and revisions of the existing criteria and standards as may be appropriate . . . .” Since the early 1980s, this independent review function has been performed by the Clean Air Scientific Advisory Committee (CASAC).

Presently, the EPA is reviewing the air quality criteria and NAAQS for PM. The EPA's overall plan for this review is presented in the Integrated Review Plan for the National Ambient Air Quality Standards for Particulate Matter (IRP).¹ A draft of the Integrated Science Assessment for Particulate Matter (ISA) was reviewed by the CASAC at a public meeting in December 2018 (83 FR 55529, November 6, 2018) and discussed on a public teleconference in March 2019 (84 FR 8523, March 8, 2019). The final ISA was made available in January 2020.² The final PA announced today draws from the scientific evidence assessed in the ISA, together with the results of air quality and other quantitative analyses, as available.

¹ The IRP (EPA-452/R-16-005, December 2016) is available at https://www.epa.gov/naaqs/particulate-matter-pm-standards-planning-documents-current-review.

² The ISA for PM (EPA/600/R-19/188, December 2019 is available at https://www.epa.gov/isa/integrated-science-assessment-isa-particulate-matter.

The PA, when final, is intended to “bridge the gap” between the scientific and technical information available in the review and the judgments required of the Administrator in determining whether to retain or revise the existing PM NAAQS. The EPA released the draft PA in September 2019 (84 FR 47944, September 11, 2019). The draft PA was reviewed by the chartered CASAC on October 24-25, 2019 at a public meeting held in Cary, NC. Public comments on the draft PA were received via a separate public teleconference on October 22, 2019 (84 FR 51555, September 30, 2019). A public meeting to discuss the CASAC letter and response to charge questions on the draft PA was held in Cary, NC on December 3, 2019 (84 FR 58713, November 1, 2019), and the CASAC provided its advice on the draft PA in a letter to the EPA Administrator dated December 16, 2019.³ The final PA reflects staff's consideration of the advice and comments from CASAC, as well as public comments. The final PA will be available on or about January 27, 2020, on the EPA's website at https://www.epa.gov/naaqs/particulate-matter-pm-air-quality-standards.

³ The CASAC letter is available at https://yosemite.epa.gov/sab/sabproduct.nsf/264cb1227d55e02c85257402007446a4/E2F6C71737201612852584D20069DFB1/$File/EPA-CASAC-20-001.pdf.

The documents briefly described above do not represent, and should not be construed to represent, any final EPA policy, viewpoint, or determination.

Dated: January 27, 2020.
Panagiotis Tsirigotis,
Director, Office of Air Quality Planning and Standards.

[FR Doc. 2020-01682 Filed 1-29-20; 8:45 am]

BILLING CODE 6560-50-P